DEPARTMENT OF COMMERCE

National Oceanic and Atmospheric Administration

15 CFR Part 922

[Docket No. 210318-0059]

RIN 0648-BA21

Expansion of Flower Garden Banks National Marine Sanctuary; Notification of Effective Date and Technical Amendment

AGENCY: Office of National Marine Sanctuaries (ONMS), National Ocean Service (NOS), National Oceanic and Atmospheric Administration (NOAA), Department of Commerce (DOC).

ACTION: Notification of effective date of final rule; technical amendment.

SUMMARY: The National Oceanic and Atmospheric Administration (NOAA) is providing notice that the final rule published on January 19, 2021 to expand Flower Garden Banks National Marine Sanctuary (FGBNMS) is effective on March 22, 2021. NOAA is also amending the FGBNMS regulations to reflect the effective date.

DATES: The final rule to expand Flower Garden Banks National Marine Sanctuary, which was published at 86 FR 4937 on January 19, 2021, is effective on March 22, 2021. The technical amendment in this document is effective on March 22, 2021.

FOR FURTHER INFORMATION CONTACT: George P. Schmahl, Superintendent, Flower Garden Banks National Marine Sanctuary, 4700 Avenue U, Building 216, Galveston, Texas 77551, at 409-356-0383, or fgbexpansion@noaa.gov.

SUPPLEMENTARY INFORMATION: Pursuant to Section 304(b) of the National Marine Sanctuaries Act (NMSA) (16 U.S.C. 1434(b)), NOAA published the designation and final regulations to implement the expansion of FGBNMS published on January 19, 2021 (86 FR 4937). As required by the NMSA, the designation and regulations would become effective following the close of a review period of 45 days of continuous session of Congress beginning on the date of publication. Moreover, a Presidential Memorandum issued on January 20, 2021 required agencies to consider a 60-day postponement in new regulations. Accordingly, NOAA announces the designation and the final regulations to implement the expansion of FGBNMS is effective on March 22, 2021. With this document, NOAA is also amending the FGBNMS regulations at § 922.122 (e)(1) to update and reflect the effective date of March 22, 2021.

Nicole R. LeBoeuf,
Acting Assistant Administrator,National Ocean Service, National Oceanic and Atmospheric Administration.

Accordingly, for the reasons set forth above, NOAA amends part 922, title 15 of the Code of Federal Regulations as follows:

PART 922—NATIONAL MARINE SANCTUARY PROGRAM REGULATIONS

1. The authority citation for part 922 continues to read as follows:

Authority: 16 U.S.C. 1431 et seq.

Subpart L—Flower Garden Banks National Marine Sanctuary

§ 922.122 [Amended]

2. Amend § 922.122(e)(1) by adding “March 22, 2021,” before the phrase “the effective date of the revised terms of sanctuary designation”.

[FR Doc. 2021-06051 Filed 3-22-21; 8:45 am]

BILLING CODE 3510-NK-P